COMMITTEE FOR PURCHASE FROM PEOPLE WHO ARE BLIND OR SEVERELY DISABLED

Procurement List Proposed Additions and Deletion

AGENCY: Committee for Purchase From People Who Are Blind or Severely Disabled.

ACTION: Proposed additions to and deletion from the Procurement List.

SUMMARY: The Committee is proposing to add to the Procurement List products and services to be furnished by nonprofit agencies employing persons who are blind or have other severe disabilities, and to delete a service previously provided by such agency.

Comments Must Be Received on or Before: 6/21/2010.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Cap, Patrol, Multi-Cam

NSN: 8415-01-580-0091;

NSN: 8415-01-580-0097;

NSN: 8415-01-580-0109;

NSN: 8415-01-580-0113;

NSN: 8415-01-580-0126;

NSN: 8415-01-580-0127;

NSN: 8415-01-580-0128;

NSN: 8415-01-580-0129;

NSN: 8415-01-580-0130;

NSN: 8415-01-580-0132;

NSN: 8415-01-580-0133;

NSN: 8415-01-580-0135;

NSN: 8415-01-580-0241;

NSN: 8415-01-580-0247.

NPA: Southeastern Kentucky Rehabilitation Industries, Inc., Corbin, KY.

Contracting Activity: Dept of the Army, XR W2DF RDECOM ACQ CTR NATICK, Natick, MA.

Coverage: C-List for 100% of the requirements of the Department of the Army as aggregated by the XR W2DF RDECOM ACQ CTR NATICK.

NSN: 7510-01-411-7000—Portfolio, Clear Front Report Cover.

NPA: Susquehanna Association for the Blind and Visually Impaired, Lancaster, PA.

Contracting Activity: Federal Acquisition Service, GSA/FSS OFC SUP CTR—Paper Products, New York, NY.

Coverage: A-List for the total government requirement as aggregated by the GSA/FSS OFC SUP CTR—Paper Products.

NSN: MR 823—Food Chopper.

NPA: Industries for the Blind, Inc., West Allis, WI.

Contracting Activity: Military Resale—Defense Commissary Agency, Fort Lee, VA.

Coverage: C-List for 100% of the requirements for military resale through the Defense Commissary Agency.

NSN: MR 824—Mandolin Slicer.

NPA: Industries for the Blind, Inc., West Allis, WI.

Contracting Activity: Military Resale-Defense Commissary Agency, Fort Lee, VA.

Coverage: C-List for 100% of the requirements for military resale through the Defense Commissary Agency.

NSN: 9390-01-078-8660—Tape, Reflective.

NPA: Bestwork Industries for the Blind, Inc., Runnemede, NJ.

Contracting Activity: DEFENSE LOGISTICS AGENCY, DEFENSE SUPPLY CENTER PHILADELPHIA, PHILADELPHIA, PA.

Coverage: C-List for 100% of the requirements of the Department of Defense as aggregated by the DEFENSE SUPPLY CENTER PHILADELPHIA.

Services

Service Type/Locations:

Janitorial and Grounds Maintenance, Customs and Border Protection, Three Points Transport Base, 16434 W. Ajo Way, Robles Junction, AZ.

Customs and Border Protection, 41455 S. Sasabe Highway, Sasabe, AZ.

Customs and Border Protection, Vehicle Maintenance Facility, 9480 W. Adams Road, Eloy, AZ.

Customs and Border Protection, Papago Farms, FR 21, Sells, AZ.

Customs and Border Protection, Sonoita Checkpoint, Highway 83 MP 40.8, Sonoita, AZ.

Customs and Border Protection, Willcox Station Facilities, 200 W. Rex Allen Jr. Road, Willcox, AZ.

Customs and Border Protection, Willcox Checkpoint, Highway 80 MP 313, Willcox, AZ.

Customs and Border Protection, Equestrian Training, 3293 E. Kimsey Road, Willcox, AZ.

Customs and Border Protection, Willcox Highway 191 Checkpoint, Highway 191, MP 41, Willcox, AZ.

Customs and Border Protection, Intelligence and Operations Coordination Center, 2430 S. Swan Road, Tucson, AZ.

NPA: J.P. Industries, Inc., Tucson, AZ.

Contracting Activity: Dept of Homeland Security, Bureau of Customs and Border Protection, Office of Procurement, Washington, DC.

Service Type/Location: Laundry Service, Naval Hospital, 6000 West Hwy 98, Pensacola, FL.

NPA: Wiregrass Rehabilitation Center, Inc., Dothan, AL.

Contracting Activity: Dept of the Navy, FISC Jacksonville, Jacksonville, FL.

Service Type/Location: Laundry Service, Naval Hospital System, 2800 Child Street, Jacksonville, FL.

NPA: GINFL Services, Inc., Jacksonville, FL.

Contracting Activity: Dept of the Navy, FISC Jacksonville, Jacksonville, FL.

Service Type/Location: Food Service Attendants, CRTC Dining Facility, 1401 Robert B. Miller Jr. Drive, Garden City, GA.

NPA: Trace, Inc., Boise, ID.

Contracting Activity: Dept of The Air Force, FA6643 HQ AFRES LGC, Robins AFB, GA.

Service Type/Location: Recycling Services, Joint Base Andrews Naval Air Facility, Washington, DC.

NPA: Melwood Horticulture Training Center, Upper Marlboro, MD.

Contracting Activity: Department of the Air Force, 316 Contracting Squadron, Joint Base Andrews Naval Air Facility, Washington, DC.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Grounds Maintenance, National Advocacy Center, 1620 Pendleton Street, Columbia, SC.

NPA: The Genesis Center, Sumter, SC.

Contracting Activity: Dept of Justice, Federal Prison System, Terminal Island, FCI, Terminal Island, CA.

Barry S. Lineback,
Director, Business Operations.

[FR Doc. 2010-12219 Filed 5-20-10; 8:45 am]

BILLING CODE 6353-01-P